SOCIAL SECURITY ADMINISTRATION

[Docket No: SSA-2015-0067]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions and extensions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov.

(SSA)

Social Security Administration, OLCA, Attn: Reports Clearance Director, 3100 West High Rise, 6401 Security Blvd., Baltimore, MD 21235. Fax: 410-966-2830. Email address: OR.Reports.Clearance@ssa.gov.

Or you may submit your comments online through www.regulations.gov, referencing Docket ID Number [SSA-2015-0067].

I. The information collections below are pending at SSA. SSA will submit them to OMB within 60 days from the date of this notice. To be sure we consider your comments, we must receive them no later than January 19, 2016. Individuals can obtain copies of the collection instruments by writing to the above email address.

1. Certificate of Responsibility for Welfare and Care of Child Not in Applicant's Custody—20 CFR 404.330, 404.339-404.341 and 404.348-404.349—0960-0019. Under the provisions of the Social Security Act (Act), non-custodial parents who are filing for spouse, mother, or father Social Security benefits based on having the child of a number holder or worker in their care, must meet the in-care requirements the Act discusses. The in-care provision requires claimants to have an entitled child under age 16 or disabled in their care. SSA uses Form SSA-781, Certificate of Responsibility for Welfare and Care of Child in Applicant's Custody, to determine if claimants meet the requirement. The respondents are applicants for spouse, mother's or father's Social Security benefits.

Type of Request: Revision of an OMB-approved information collection.

Modality of completion | Number of respondents | Frequency of response | Average burden per response (minutes) | Estimated total annual burden (hours)
SSA-781 | 14,000 | 1 | 10 | 2,333

2. Request for Change in Time/Place of Disability Hearing—20 CFR 404.914(c)(2) and 416.1414(c)(2)—0960-0348. At the request of the claimants or their representative, SSA schedules evidentiary hearings at the reconsideration level for claimants of Title II benefits or Title XVI payments when we deny their claims for disability. When claimants or their representatives find they are unable to attend the scheduled hearing, they complete Form SSA-769 to request a change in time or place of the hearing. SSA uses the information as a basis for granting or denying requests for changes and for rescheduling disability hearings. Respondents are claimants or their representatives who wish to request a change in the time or place of their hearing.

Type of Request: Revision of an OMB-approved information collection.

Modality of completion | Number of respondents | Frequency of response | Average burden per response (minutes) | Estimated total annual burden (hours)
SSA-769-U4 | 7,483 | 1 | 8 | 998

3. Notice Regarding Substitution of Party Upon Death of Claimant—Reconsideration of Disability Cessation—20 CFR 404.907-404.921 and 416.1407-416.1421—0960-0351. When a claimant dies before we make a determination on that person's request for reconsideration of a disability cessation, SSA seeks a qualified substitute party to pursue the appeal. If SSA locates a qualified substitute party, the agency uses Form SSA-770 to collect information about whether to pursue or withdraw the reconsideration request. We use this information as the basis for the decision to continue or discontinue with the appeals process. Respondents are substitute applicants who are pursuing a reconsideration request for a deceased claimant.

Type of Request: Revision of an OMB-approved information collection.

Modality of completion | Number of respondents | Frequency of response | Average burden per response (minutes) | Estimated total annual burden (hours)
SSA-770 | 1,200 | 1 | 5 | 100

4. Beneficiary Interview and Auditor's Observations Form—0960-0630. SSA's Office of the Inspector General collects information from Form SSA-322, the Beneficiary Interview and Auditor's Observation form, to interview beneficiaries or their payees to determine whether they are complying with their duties and responsibilities. The respondents are randomly selected Supplemental Security Income (SSI) recipients and Social Security beneficiaries who have representative payees.

Type of Request: Revision of previously approved collection.

Modality of completion | Number of respondents | Frequency of response | Average burden per response (minutes) | Estimated total annual burden (hours)
SSA-322 | 1,000 | 1 | 15 | 250

II. SSA submitted the information collections below to OMB for clearance. Your comments regarding the information collections would be most useful if OMB and SSA receive them 30 days from the date of this publication. To be sure we consider your comments, we must receive them no later than December 17, 2015. Individuals can obtain copies of the OMB clearance packages by writing to OR.Reports.Clearance@ssa.gov.

1. Authorization for the Social Security Administration to Obtain Account Records from a Financial Institution—20 CFR 416.200 and 416.203—0960-0293. SSA collects and verifies financial information from individuals applying for SSI payments to determine if the applicant meets the SSI resource eligibility requirements. If the SSI claimants provide incomplete, unavailable, or seemingly altered records, SSA contacts their financial institutions to verify the existence, ownership, and value of accounts owned. Financial institutions require individuals to sign Form SSA-4641-F4, or complete one of SSA's electronic applications, e4641 or the Access to Financial Institutions (AFI) screens, to authorize them to disclose records to SSA. The respondents are SSI applicants, recipients, and their deemors.

Type of Request: Revision of an OMB-approved information collection.

Modality of completion | Number of respondents | Frequency of response | Average burden per response (minutes) | Estimated total annual burden (hours)
SSA-4641 (paper) | 252,500 | 1 | 6 | 25,250
e4641 and AFI (electronic) | 15,747,500 | 1 | 2 | 524,917
Totals | 16,000,000 |  |  | 550,167

2. Surveys in Accordance with E.O. 12862 for the Social Security Administration—0960-0526. Under the auspices of Executive Order 12862, Setting Customer Service Standards, SSA conducts multiple customer satisfaction surveys each year. These voluntary customer satisfaction assessments include paper, Internet, and telephone surveys; mailed questionnaires; and customer comment cards. The purpose of these questionnaires is to assess customer satisfaction with the timeliness, appropriateness, access, and overall quality of existing SSA services and proposed modifications or new versions of services. The respondents are recipients of SSA services (including most members of the public), professionals, and individuals who work on behalf of SSA beneficiaries.

Type of Request: Extension of an OMB-approved information collection.

| Number of respondents | Frequency of response | Average burden per response (minutes) | Estimated total annual burden (hours)
Year 1 | 9,164,640 | 1 | 3-30 | 1,346,904
Year 2 | 9,170,140 | 1 | 3-30 | 1,347,404
Year 3 | 9,175,640 | 1 | 3-30 | 1,348,504
Totals | 27,510,420 |  |  | 4,042,812

3. The Ticket to Work and Self-Sufficiency Program—20 CFR 411—0960-0644. SSA's Ticket to Work (TTW) Program transitions Social Security Disability Insurance (SSDI) and SSI recipients toward independence by allowing them to receive Social Security payments while maintaining employment under the auspices of the program. SSA uses service providers, called Employment Networks (ENs), to supervise participant progress through the stages of TTW Program participation, such as job searches and interviews, progress reviews, and changes in ticket status. ENs can be private for-profit and nonprofit organizations, as well as state vocational rehabilitation agencies (VRs). SSA and the ENs utilize the TTW program manager to operate the TTW Program and exchange information about participants. For example, the ENs use the program manager to provide updates on tasks such as selecting a payment system or requesting payments for helping the beneficiary achieve certain work goals. Since the ENs are not PRA-exempt, the multiple information collections within the TTW program manager require OMB approval, and we clear them under this information collection request (ICR). Most of the categories of information in this ICR are necessary for SSA to: (1) Comply with the Ticket to Work legislation; and (2) provide proper oversight of the program. SSA collects this information through several modalities, including forms, electronic exchanges, and written documentation. The respondents are the ENs or state VRs, as well as SSDI beneficiaries and blind or disabled SSI recipients working under the auspices of the TTW Program.

Type of Request: Revision of an OMB-approved information collection.

Modality of completion | Number of respondents | Frequency of response | Average burden per response (minutes) | Estimated total annual burden (hours)
a) 20 CFR 411.140(d)(2)—Interactive Voice Recognition Telephone | 6,428 | 1 | 2.5 | 268
a) 20 CFR 411.140(d)(2)—Portal | 25,713 | 1 | 1.25 | 536
a) 20 CFR 411.140(d)(3)—Virtual Job Fair Registration-Employment Networks | 500 | 1 | 10 | 83
a) 20 CFR 411.140(d)(3); 411.325(a); 411.150(b)(3)—SSA-1365 | 948 | 1 | 15 | 237
a) 20 CFR 411.140(d)(3); 411.325(a); 411.150(b)(3)—SSA-1365 Portal | 3,792 | 1 | 11 | 695
a) 20 CFR 411.140(d)(3); 411.325(a); 411.150(b)(3)—SSA-1370 | 1,956 | 1 | 60 | 1,956
a) 20 CFR 411.140(d)(3); 411.325(a); 411.150(b)(3)—SSA-1370 Portal | 5,868 | 1 | 10 | 978
a) 20 CFR 411.166; 411.170(b)—Electronic File Submission | 40,324 | 1 | 5 | 3,360
b) 20 CFR 411.145; 411.325 | 2,494 | 1 | 15 | 624
b) 20 CFR 411.145; 411.325—Portal | 7,481 | 1 | 11 | 1,372
b) 20 CFR 411.535(a)(1)(iii)—Data Sharing/Portal | 8,505 | 1 | 5 | 709
c) 20 CFR 411.192(b)&(c) | 6 | 1 | 30 | 3
c) 20 CFR 411.200(b)—SSA-1375 | 112,362 | 1 | 15 | 28,091
c) 20 CFR 411.200(b)—Portal | 64,824 | 1 | 5 | 5,402
c) 20 CFR 411.210(b) | 41 | 1 | 30 | 21
c) 20 CFR 411.200(b) Wise Webinar Registration Page | 24,000 | 1 | 3 | 1,200
c) 20 CFR 411.200(b) Virtual Job Fair Registration | 9,000 | 1 | 10 | 1,500
d) 20 CFR 411.365; 411.505; 411.515 | 6 | 1 | 10 | 1
e) 20 CFR 411.325(d); 411.415 | 1* | 1 | 480 | 8
f) 20 CFR 411.575—SSA-1389; SSA-1391; SSA-1393; SSA-1396; SSA-1398; SSA-1399 | 2,805 | 1 | 40 | 1,870
f) 20 CFR 411.575—Portal | 42,075 | 1 | 22 | 15,427
f) 20 CFR 411.575—Automatic Payments | 11,220 | 1 | 0 | 0
f) 20 CFR 411.560—SSA-1401 | 100 | 1 | 20 | 33
g) 20 CFR 411.325(f) | 1,371 | 1 | 45 | 1,028
h) 20 CFR 411.435; 411.615; 411.625 | 2 | 1 | 120 | 4
i) 20 CFR 411.320—SSA-1394 | 52 | 1 | 10 | 9
i) 20 CFR 411.320—SSA-1394 Portal | 158 | 1 | 5 | 13
Totals | 372,032 |  |  | 65,428
* (None received in 2012, 2013, 2014)

4. Representative Payment Policies and Administrative Procedures for Imposing Penalties for False or Misleading Statements or Withholding of Information—0960-0740. This information collection request comprises several regulation sections that provide additional safeguards for Social Security beneficiaries' whose representative payees receive their payment. SSA requires representative payees to notify them of any event or change in circumstances that would affect receipt of benefits or performance of payee duties. SSA uses the information to determine continued eligibility for benefits, the amount of benefits due and if the payee is suitable to continue servicing as payee. The respondents are representative payees who receive and use benefits on behalf of Social Security beneficiaries.

Type of Collection: Extension of an OMB-approved information collection.

Regulation section | Number of respondents | Frequency of response | Average burden per response (minutes) | Estimated total annual burden (hours)
404.2035(d)—Paper/Mail | 28,600 | 1 | 5 | 2,383
404.2035(d)—Office interview/Intranet | 543,400 | 1 | 5 | 45,283
404.2035(f)—Paper/Mail | 286 | 1 | 5 | 24
404.2035(f)—Office interview/Intranet | 5,434 | 1 | 5 | 453
416.635(d)—Paper/Mail | 15,600 | 1 | 5 | 1,300
416.635(d)—Office interview/Intranet | 286,400 | 1 | 5 | 23,867
416.635(f)—Paper/Mail | 156 | 1 | 5 | 13
416.635(f)—Office interview/Intranet | 2,964 | 1 | 5 | 247
Total | 882,840 |  | - | 73,570

Dated: November 11, 2015.
Naomi R. Sipple,
Reports Clearance Officer, Social Security Administration.

[FR Doc. 2015-29269 Filed 11-16-15; 8:45 am]

BILLING CODE 4191-02-P